Title 3—

The President

Proclamation 8175 of September 12, 2007

National Hispanic Heritage Month, 2007

By the President of the United States of America

A Proclamation

Hispanic Americans have strengthened our country and contributed to the spirit of America. National Hispanic Heritage Month is an opportunity to honor these contributions and celebrate the rich cultural traditions of our Hispanic-American community.

Hispanic Americans have helped establish America as a place of freedom and opportunity, and their contributions have illustrated what is best about our great Nation. Their hard work, love of country, and deep commitment to faith and family have shaped the character of our country and helped preserve the values we all cherish. By sharing their vibrant culture and heritage, Hispanic Americans have also enriched the American experience and helped define the unique fabric of our Nation.

Americans of Hispanic heritage have carried on a proud tradition of service to our Nation. In times of great consequence, they have answered the call to defend America as members of our Armed Forces. These brave men and women bring honor to America, and we are grateful for their service and sacrifice. In our towns and communities, Hispanic Americans have also shown the good heart of our Nation by volunteering to help their fellow Americans. Their kindness and compassion have made a difference in the lives of others and have made our country a more hopeful place for all.

During National Hispanic Heritage Month, we celebrate the diversity that makes America stronger, and we recognize the many ways Hispanic Americans have enriched our Nation. To honor the achievements of Hispanic Americans, the Congress, by Public Law 100-402, as amended, has authorized and requested the President to issue annually a proclamation designating September 15 through October 15 as “National Hispanic Heritage Month.”

NOW, THEREFORE, I, GEORGE W. BUSH, President of the United States of America, by virtue of the authority vested in me by the Constitution and the laws of the United States, do hereby proclaim September 15 through October 15, 2007, as National Hispanic Heritage Month. I call upon public officials, educators, librarians, and all the people of the United States to observe this month with appropriate ceremonies, activities, and programs.

IN WITNESS WHEREOF, I have hereunto set my hand this twelfth day of September, in the year of our Lord two thousand seven, and of the Independence of the United States of America the two hundred and thirty-second.

[FR Doc. 07-4639

Filed 9-14-07; 9:37 am]

Billing code 3195-01-P